DEPARTMENT OF ENERGY

Federal Energy Regulatory Commission

Sunshine Act Meetings

The following notice of meeting is published pursuant to section 3(a) of the government in the Sunshine Act (Pub. L. 94-409), 5 U.S.C. 552b:

AGENCY HOLDING MEETING: Federal Energy Regulatory Commission.

TIME AND DATE: January 18, 2024, 10:00 a.m.

PLACE: Room 2C, 888 First Street NE, Washington, DC 20426.

STATUS: Open to the public.

MATTERS TO BE CONSIDERED: Agenda.

* Note—Items listed on the agenda may be deleted without further notice.

CONTACT PERSON FOR MORE INFORMATION: Debbie-Anne A. Reese, Acting Secretary, Telephone (202) 502-8400.

For a recorded message listing items stricken from or added to the meeting, call (202) 502-8627.

This is a list of matters to be considered by the Commission. It does not include a listing of all documents relevant to the items on the agenda. All public documents, however, may be viewed online at the Commission's website at https://elibrary.ferc.gov/eLibrary/search using the eLibrary link.

1108th—Meeting
[Open meeting—January 18, 2024, 10:00 a.m.]
Item No. | Docket No. | Company
ADMINISTRATIVE
A-1 | AD24-1-000 | Agency Administrative Matters.
A-2 | AD24-2-000 | Customer Matters, Reliability, Security and Market Operations.
ELECTRIC
E-1 | ER22-24-003, ER22-24-000 | System Energy Resources, Inc.
E-2 | EL23-83-002 | Gregory and Beverly Swecker v. Midland Power Cooperative.
| QF11-424-012 | Gregory and Beverly Swecker.
E-3 | ER23-977-001, ER23-977-000 | Manitowoc Public Utilities.
E-4 | ER24-327-000 | Long Lake Solar, LLC.
E-5 | ER22-2643-000 | Three Corners Solar, LLC.
E-6 | ER21-2722-001 | E. BarreCo Corp LLC.
E-7 | ER20-2004-003, ER20-2004-004 | Public Service Electric and Gas Company and PJM Interconnection, L.L.C.
E-8 | ER17-405-000 | Appalachian Power Company.
| ER17-406-000 | AEP Appalachian Transmission Company Inc.
| EL23-51-000 | American Municipal Power, Inc., et al. v. Appalachian Power Company, et al., and AEP Appalachian Transmission Company Inc., et al.
E-9 | ER18-194-005 | AEP Oklahoma Transmission Company, Inc.
| ER18-195-005 | Public Service Company of Oklahoma.
| EL23-71-000 | Arkansas Electric Cooperative Corporation, et al. v. Public Service Company of Oklahoma, et al.
E-10 | EL23-43-000 | arGo Partners GP LLC.
E-11 | EL23-41-000 | arGo Partners GP LLC.
HYDRO
H-1 | P-7656-019 | Village of Highland Falls High-Point Utility, LDC.
H-2 | P-943-142 | Public Utility District No. 1 of Chelan County, Washington.
H-3 | P-1494-455 | Grand River Dam Authority.
CERTIFICATES
C-1 | CP22-493-000 | Tennessee Gas Pipeline Company, L.L.C.
C-2 | CP22-495-000 | Transcontinental Gas Pipe Line Company, LLC.
C-3 | CP23-511-000 | Golden Triangle Storage, LLC.
C-4 | CP23-82-000 | Columbia Gas Transmission, LLC.
C-5 | CP17-101-005 | Transcontinental Gas Pipe Line Company, LLC.

A free webcast of this event is available through the Commission's website. Anyone with internet access who desires to view this event can do so by navigating to www.ferc.gov' s Calendar of Events and locating this event in the Calendar. The Federal Energy Regulatory Commission provides technical support for the free webcasts. Please call (202) 502-8680 or email customer@ferc.gov if you have any questions.

Immediately following the conclusion of the Commission Meeting, a press briefing will be held in the Commission Meeting Room. Members of the public may view this briefing in the designated overflow room. This statement is intended to notify the public that the press briefings that follow Commission meetings may now be viewed remotely at Commission headquarters but will not be telecast.

Issued: January 11, 2024.
Debbie-Anne A. Reese,
Acting Secretary.

[FR Doc. 2024-00877 Filed 1-12-24; 11:15 am]

BILLING CODE 6717-01-P